DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on August 19, 2002 (67 FR 53839-53840, or U.S. DOT Docket Number NHTSA-2002-12908).

DATES: Comments must be submitted on or before May 16, 2003.

FOR FURTHER INFORMATION CONTACT: Johanna Lowrie at the National Highway Traffic Safety Administration, Office of Crashworthiness Standards (NVS-111) (202) 366-5269. 400 Seventh Street, SW., 5311, Washington, DC 20590.

SUPPLEMENTARY INFORMATION:

National Highway Traffic Safety Administration

Title: Vehicle Information for the General Public.

OMB Number: 2127 New.

Type of Request: Regular.

Abstract: NHTSA currently collects vehicle information through the Office of Vehicle Safety Compliance (OVSC). This information collection is mandatory and is specific to Compliance requirements of certain Federal Motor Vehicle Safety Standards (FMVSS). The information collected by OVSC has been useful to the New Car Assessment Program (NCAP) in selecting vehicles for it's crash testing programs, but more information is needed. At the same time, the public's interest in vehicle information continues to grow. The public is interested not only in crash test results and other vehicle ratings, but is also interested in information on the benefit and availability of safety features. NHTSA also needs safety feature information when it attempts to analyze petitions for rulemaking asking the agency to mandate certain safety features.

An example of the type of information we propose to collect includes: Specific advanced frontal air bags information that would include the number of air bag deployment stages; technologies air bag deployment is dependent upon; air bag on/off switch information; child restraint anchorages system information; seat belt information that would include pretensioner, load limiters or other energy management systems for the seat belt, seat belt extenders and adjustable upper belt anchorages; dynamic head restraints; side air bag information that would include where the side air bag is mounted, what type of side bag is mounted and whether the side air bags meet the requirements of the recommendations of the Technical Working Group on Out of Position Occupants (TWG); Automatic Door Lock (ADL) information; crash avoidance information, anti-theft devices, and Static Stability Rating (SSF) information.

NHTSA will use this information on the NHTSA Web site, in the “Buying a Safer Car” and “Buying a Safer Car for Child Passengers” brochures, other consumer publications, as well as internally for benefit analysis. NHTSA plans on making this burden easier by sending out electronic files with the original letter requesting information. In the future, NHTSA plans on developing a process for the manufacturers to submit the information on a secure website.

Affected Public: Manufacturers that sell motor vehicles in the United States under 10,000 lbs.

Estimated Total Annual Burden: 880 hours.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on April 10, 2003.
Stephen R. Kratzke,
Associate Administrator for Rulemaking.

[FR Doc. 03-9357 Filed 4-15-03; 8:45 am]

BILLING CODE 4910-59-P